DEPARTMENT OF COMMERCE

National Oceanic and Atmospheric Administration

RIN 0648-XK50

Fisheries of the South Atlantic and Gulf of Mexico; SEDAR; Public Meetings

AGENCY: National Marine Fisheries Service (NMFS), National Oceanic and Atmospheric Administration (NOAA), Commerce.

ACTION: Notice of Southeastern Data, Assessment, and Review (SEDAR) Procedural Workshop on Indices Development and Selection Criteria.

SUMMARY: Measures of population abundance are critical to developing adequate and reliable quantitative stock assessments. Given the complexity of developing indices of abundance and determining which indices may be useful for use in stock assessments, a 4 day workshop will be convened to gather key members of the SEDAR assessment community to prepare a guide to index development and evaluation. Topics of discussion will include: methods for indices development, review of criteria used in determining usefulness of indices in past SEDARs, meta-analysis of indices presented in past SEDARs (examining factors such as duration, coefficients of variation, and spatial coverage), and possible criteria for indices selection. Participants will produce summaries and/or documents of various issues to be discussed prior to the workshop and participant in the development of the final report during and after the meeting.

DATES: The SEDAR Indices Procedural Workshop will take place October 14-17, 2008; SEDAR - Indices Procedural Workshop Schedule: October 14, 2008: 1 p.m. - 8 p.m.; October 15-16, 2008: 8 a.m. - 8 p.m.; October 17, 2008: 8 a.m. - 1 p.m.

ADDRESSES: The SEDAR Indices Procedural Workshop will be held at the NOAA Fisheries, Southeast Fisheries Science Center, 75 Virginia Beach Drive, Miami, FL 33149; telephone: (305) 361-4200.

Council address: South Atlantic Fishery Management Council, 4055 Faber Place Drive, Suite 201, North Charleston, SC 29405.

FOR FURTHER INFORMATION CONTACT: Julie Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

Each SEDAR workshop panel is asked to provide research and monitoring recommendations to improve future assessments and feedback on the process to help improve SEDAR itself. Over time, certain key topics emerge that reveal a research need or procedural suggestion that is common to multiple assessments. The SEDAR Steering Committee endorses procedural workshops such as that noticed here to address those issues that affect multiple assessments and require more time and resources to resolve than are typically available during the normal assessment development process. The goal of these workshops is to develop guidelines and practices that will increase the efficiency of subsequent SEDAR assessments.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to the Council office (see ADDRESSES) at least 10 business days prior to each workshop.

Dated: September 10, 2008.
Tracey L. Thompson,
Acting Director, Office of Sustainable Fisheries, National Marine Fisheries Service.

[FR Doc. E8-21469 Filed 9-12-08; 8:45 am]

BILLING CODE 3510-22-S